DEPARTMENT OF TRANSPORTATION

Surface Transportation Board

[STB Finance Docket No. 34254]

CSX Transportation, Inc.—Trackage Rights Exemption—Norfolk Southern Railway Company

Norfolk Southern Railway Company (NS) has agreed to grant CSX Transportation, Inc. (CSXT) trackage rights on the “Lima Running Track” between the connection to NS's subdivision at Eire Junction near milepost SP 90.4 and milepost 91.9 along with associated yard and sidetrackage at South Lima Yard, at Lima, OH, a distance of approximately 1.5 miles.¹

¹ An unredacted version of the Trackage Rights Agreement, as required by 49 CFR 1180.6(a)(7)(ii), was concurrently filed under seal along with the motion for a protective order. That motion was granted and a protective order was issued in a decision served on October 24, 2002.

CSXT stated that it proposed to consummate the transaction on October 22, 2002, but the exemption did not become effective until October 24, 2002 (7 days after the exemption was filed).

The purpose of the trackage rights is to allow CSXT to achieve certain operating economies.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34254, must be filed with the Surface Transportation Board, 1925 K Street, NW., Washington, DC 20423-0001. In addition, one copy of each pleading must be served on Natalie S. Rosenberg, 500 Water Street, JI50, Jacksonville, FL 32202.

Board decisions and notices are available on our Web site at www.stb.dot.gov.

Decided: October 29, 2002.
By the Board, David M. Konschnik, Director, Office of Proceedings.
Vernon A. Williams,
Secretary.

[FR Doc. 02-28071 Filed 11-5-02; 8:45 am]

BILLING CODE 4915-00-P